DEPARTMENT OF TRANSPORTATION

Federal Motor Carrier Safety Administration

[Docket No. FMCSA-2016-0215]

Qualification of Drivers; Exemption Applications; Vision

AGENCY: Federal Motor Carrier Safety Administration (FMCSA), DOT.

ACTION: Notice of denials.

SUMMARY: FMCSA announces its denial of 144 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Ms. Christine A. Hydock, Chief, Medical Programs Division, (202) 366-4001, fmcsamedical@dot.gov, FMCSA, Department of Transportation, 1200 New Jersey Avenue SE, Room W64-113, Washington, DC 20590-0001. Office hours are 8:30 a.m. to 5 p.m., e.t., Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 144 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 45 applicants had no experience operating a CMV:

Joshua D. Adkins (PA)

Sterling Arkills (OR)

Karen A. Bright (SC)

Shane O. Bright (IL)

William C. Budka (MD)

Robert S. Campbell (WA)

Harley M. Cleckner (IN)

Brenton S. Cooper (WV)

Jose M. Corral (TX)

Roman S. Denson (AL)

Agron Dili (ND)

Gary M. Dunn, Jr. (MD)

Rodney S. Evans (IL)

Jonas M. Feth (MN)

Johnny D. Freeman (AR)

Scott J. Geritano (NC)

Scott D. Greiger (WI)

Scipio Hill (OH)

Eric R. Isble (PA)

Misty D. Jett (MO)

Daniel R. Kerner (NH)

Steven L. Lane (OR)

Keith A. Leary (CA)

Max J. Lopez (CO)

Paul Morgan (PA)

Richard N. Neff (PA)

Antonio Ortiz (KS)

Dasey D. Parks (GA)

George W. Parrish (OR)

Eduardo J. Pastran-Garcia (KS)

Mackenzie T. Pickle (TX)

Benjamin J. Pitchford (WI)

Matthew T. Pritchett (MD)

Cameron N. Puckett (OH)

James A. Purtle (MN)

Donald Rogers (OH)

Andrew W. Sheeder (PA)

James G. Shikany (MO)

Dominic J. Small (AL)

Ronald J. Swihart (AZ)

Bennie L. Tate (MI)

Otis L. Tate, Jr. (FL)

Bobby Tuggle (WA)

David C. Whybrew (OK)

Darrel J. Wilson (NC)

The following 19 applicants did not have 3 years of experience driving a CMV on public highways with their vision deficiencies:

Steven J. Black (PA)

Kenneth W. Blake (KS)

David W. Coburn (TX)

Zackary W. Craft (MO)

Kenneth Daggs (LA)

Larry E. Edwards (GA)

Alexandria J. Ensley (SC)

Rodney R. Greiner (MT)

Vashion E. Hammond (FL)

James K. Long (MN)

Richard M. Matheson (NC)

Derrick S. Miller (TN)

James C. Montgomery (TN)

John M. Moore (LA)

Marlon M. Moran (TX)

Cazzie L. Roberts (AL)

Samuel Rodriguez (OH)

Andrew R. Scroggins (IN)

Frank A. Wolfe (MD)

The following 11 applicants did not have 3 years of recent experience driving a CMV with the vision deficiency:

William P. Barrett (OH)

James F. Bowles (IL)

Kevin J. Campanella (IA)

Harry E. Farmer (WV)

Armand P. Fortier (NH)

Billy R. Lykins (OH)

Wayne L. Marshall (NY)

Anthony L. Pitts (AR)

Steven L. Rowles (PA)

Nicole L. Welborn (WI)

Scott A. Yon (PA)

The following 2 applicants did not have sufficient driving experience during the past 3 years under normal highway operating conditions:

Kenneth A. Dinguss (WA)

Kevin M. Gambill (WV)

Dwayne S. Davidson (OH) was charged with a moving violation(s) in conjunction with a CMV accident(s).

Jerry M. Richardson (NC) does not have verifiable proof of commercial driving experience over the past 3 years under normal highway operating conditions that would serve as an adequate predictor of future safe performance.

Roy W. Houser, II (NC) did not hold a license which allowed operation of vehicles over 26,000 pounds for all or part of the preceding 3-year period.

Roberto Fernandez (NJ) did not have an optometrist or ophthalmologist willing to make a statement that they are able to operate a CMV from a vision standpoint.

The following 18 applicants were denied for multiple reasons:

Lance T. Brown (KY)

David A. Farmer (SC)

Michael S. Gilmore (AR)

Richard L. Hines (PA)

Taylor M. Houghton (TX)

Theatmus Lovell (FL)

Christopher D. Miller (TX)

Larry J. Neitzel (NE)

Nicholas Pawlow (NJ)

Cynethia Rainey (SC)

Ingrid T. Reyes (DC)

Blaine A. Rosencrans (ND)

Willie T. Sanders (NE)

Ernesto Silva (NM)

John T. Smith (KS)

Richard W. Vanhandel (NJ)

Christopher P. Wagner (MO)

Edward B. Wilson (VA)

The following 3 applicants have not had stable vision for the preceding 3-year period:

David Dibb (WI)

Victor Gomez (CA)

Abelardo J. Gutierrez (TX)

The following 2 applicants do not meet the vision standard in the better eye:

Garvel J. Owens (MI)

Luke A. Wester (KS)

The following 12 applicants met the current federal vision standards. Exemptions are not required for applicants who meet the current regulations for vision:

Stephen M. Billings (VT)

Alvin L. Bonjour (KS)

James H. Brown (VA)

Ernest L. Felcher, Jr. (WA)

Elizabeth N. Leal (TX)

Aniece A. Lembo (NY)

Dominic J. Macedo (NY)

Jeffery L. Parker (VA)

Wojciech Podwojcik (NC)

Robert M. Rossell (MN)

Douglas M Standy (ND)

Jose A. Trigueros Lopez (CA)

The following 25 applicants will not be driving interstate, intrastate commerce, or are not required to carry a DOT medical card:

Nelson M. Anselmo (RI)

Elliot Q. Boone (FL)

Harold B. Cochran (MI)

Orlando Colon (FL)

Joseph J. Crane (GA)

David E. Failor (PA)

Jerry D. Gibson (TX)

Percy L. Hicks (FL)

Peter P. Higbee (NJ)

Nicholas A. Jones (OH)

Robert C. Lavoie (NH)

Miguel A. Limon (CA)

Charles S. Lundgren (WA)

Judge McGee (TX)

Juan J. Melendez Maldonado (NC)

Gregory L. Messing (MI)

Dustin M. Ohm (MN)

Zachary R. Reamer (MN)

Gerardo Reyes Hernandez (CA)

Rolando Rosales (OK)

Carlos J. Sandoval Caisphal (CO)

Gary A. Underwood (GA)

Jimmie D. Washington (TX)

Bryan Whiting (NC)

Michael D. Wolfe (PA)

The following 3 applicants performs transportation for the Federal government, state, or any political sub-division of the state:

John F. Cole (CT)

Paul T. Collins (MI)

William W. Lewis (OH)

Issued on: February 27, 2017.
Larry W. Minor,
Associate Administrator for Policy.

[FR Doc. 2017-04263 Filed 3-3-17; 8:45 am]

BILLING CODE 4910-EX-P